COMMITTEE FOR PURCHASE FROM PEOPLE WHO ARE BLIND OR SEVERELY DISABLED

Procurement List; Deletions

AGENCY: Committee for Purchase From People Who Are Blind or Severely Disabled.

ACTION: Deletions from Procurement List.

SUMMARY: This action deletes from the Procurement List products previously furnished by nonprofit agencies employing persons who are blind or have other severe disabilities.

DATES: Effective Date: December 1, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@AbilityOne.gov.

SUPPLEMENTARY INFORMATION:

Deletions

On 08/01/2008, the Committee for Purchase From People Who Are Blind or Severely Disabled published notice (73 F.R. 44960-44961) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Belt, Aircraft Safety

NSN: 1680-00-163-1570—Belt, Aircraft Safety.

NPA: Arizona Industries for the Blind, Phoenix, AZ.

Contracting Activity: Defense Supply Center Richmond, Richmond, VA.

Paper Cutter, Rotary Precision

NSN: 7520-01-483-8898—Paper Cutter, Rotary Precision.

NPA: The Lighthouse for the Blind, Inc. (Seattle Lighthouse), Seattle, WA.

Contracting Activity: GSA/FSS OFC SUP CTR—Paper Products, New York, NY.

Flashlight

NSN: 6230-01-513-3276—Flashlight, Aluminum, 3D, Blue.

NPA: Central Association for the Blind & Visually Impaired, Utica, NY.

Contracting Activity: GSA/FSS OFC SUP CTR—Paper Products, New York, NY.

Kimberly M. Zeich,
Deputy Executive Director.

[FR Doc. E8-26043 Filed 10-30-08; 8:45 am]

BILLING CODE 6353-01-P